DEPARTMENT OF TRANSPORTATION

Federal Aviation Administration

14 CFR Part 39

[Docket No. FAA-2020-0972; Project Identifier MCAI-2020-01091-T; Amendment 39-21406; AD 2021-03-03]

RIN 2120-AA64

Airworthiness Directives; ATR-GIE Avions de Transport Régional Airplanes

AGENCY: Federal Aviation Administration (FAA), Department of Transportation (DOT).

ACTION: Final rule.

SUMMARY: The FAA is superseding Airworthiness Directives (AD) 2000-23-26, AD 2018-14-11, and AD 2019-13-04, which applied to ATR-GIE Avions de Transport Régional Model ATR72 airplanes. AD 2019-13-04 required revising the existing maintenance or inspection program, as applicable, to incorporate new or more restrictive maintenance instructions and airworthiness limitations. This AD requires revising the existing maintenance or inspection program, as applicable, to incorporate new or more restrictive airworthiness limitations; as specified in a European Union Aviation Safety Agency (EASA) AD, which is incorporated by reference. This AD was prompted by a determination that new or more restrictive airworthiness limitations are necessary. The FAA is issuing this AD to address the unsafe condition on these products.

DATES: This AD is effective March 31, 2021.

The Director of the Federal Register approved the incorporation by reference of a certain publication listed in this AD as of March 31, 2021.

The Director of the Federal Register approved the incorporation by reference of a certain other publication listed in this AD as of August 26, 2019 (84 FR 35028, July 22, 2019).

ADDRESSES: For the EASA material identified in this AD that will be incorporated by reference (IBR), contact the EASA, Konrad-Adenauer-Ufer 3, 50668 Cologne, Germany; telephone +49 221 8999 000; email ADs@easa.europa.eu; internet www.easa.europa.eu. You may find this IBR material on the EASA website at https://ad.easa.europa.eu.

For the ATR service information identified in this AD, contact ATR-GIE Avions de Transport Régional, 1 Allée Pierre Nadot, 31712 Blagnac Cedex, France; telephone +33 (0) 5 62 21 62 21; fax +33 (0) 5 62 21 67 18; email continued.airworthiness@atr-aircraft.com; internet https://www.atr-aircraft.com.

You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0972.

Examining the AD Docket

You may examine the AD docket on the internet at https://www.regulations.gov by searching for and locating Docket No. FAA-2020-0972; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Shahram Daneshmandi, Aerospace Engineer, Large Aircraft Section, International Validation Branch, FAA, 2200 South 216th St., Des Moines, WA 98198; telephone and fax 206-231-3220; email shahram.daneshmandi@faa.gov.

SUPPLEMENTARY INFORMATION:

Discussion

The EASA, which is the Technical Agent for the Member States of the European Union, has issued EASA AD 2020-0173, dated August 5, 2020 (EASA AD 2020-0173) (also referred to as the Mandatory Continuing Airworthiness Information, or “the MCAI”), to correct an unsafe condition for all ATR-GIE Avions de Transport Régional Model ATR72 airplanes.

Airplanes with an original airworthiness certificate or original export certificate of airworthiness issued after December 12, 2019 must comply with the airworthiness limitations specified as part of the approved type design and referenced on the type certificate data sheet; this AD therefore does not include those airplanes in the applicability.

The FAA issued a notice of proposed rulemaking (NPRM) to amend 14 CFR part 39 to supersede AD 2019-13-04, Amendment 39-19677 (84 FR 35028, July 22, 2019) (AD 2019-13-04). AD 2019-13-04 applied to certain ATR-GIE Avions de Transport Régional Model ATR72 airplanes. The NPRM published in the Federal Register on November 2, 2020 (85 FR 69272). The NPRM was prompted by a determination that new or more restrictive airworthiness limitations are necessary. The NPRM proposed to require revising the existing maintenance or inspection program, as applicable, to incorporate new or more restrictive airworthiness limitations, as specified in an EASA AD.

The FAA is issuing this AD to address fatigue cracking and damage in principal structural elements, which could result in reduced structural integrity of the airplane. See the MCAI for additional background information.

Comments

The FAA gave the public the opportunity to participate in developing this final rule. The FAA received no comments on the NPRM or on the determination of the cost to the public.

Clarification of Affected Airplanes

The applicability of the proposed AD identified the affected airplanes as Model ATR72 airplanes. The FAA has revised the applicability of this AD to identify model designations as published in the most recent type certificate data sheet for the affected models. For ATR72 airplanes, the type certificate data sheet designations are as follows: Model ATR72-101, -102, -201, -202, -211, -212, and -212A airplanes.

Conclusion

The FAA reviewed the relevant data and determined that air safety and the public interest require adopting this final rule with the change described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related Service Information Under 1 CFR Part 51

EASA AD 2020-0173 describes new or more restrictive airworthiness limitations for airplane structures and safe life limits.

This AD also requires ATR ATR72 Time Limits Document, Revision 16, dated January 30, 2018, which the Director of the Federal Register approved for incorporation by reference as of August 26, 2019 (84 FR 35028, July 22, 2019).

This material is reasonably available because the interested parties have access to it through their normal course of business or by the means identified in the ADDRESSES section.

Costs of Compliance

The FAA estimates that this AD affects 23 airplanes of U.S. registry. The FAA estimates the following costs to comply with this AD:

The FAA estimates the total cost per operator for the retained actions from AD 2019-13-04 to be $7,650 (90 work-hours × $85 per work-hour).

The FAA has determined that revising the existing maintenance or inspection program takes an average of 90 work-hours per operator, although the agency recognizes that this number may vary from operator to operator. In the past, the agency has estimated that this action takes 1 work-hour per airplane. Since operators incorporate maintenance or inspection program changes for their affected fleet(s), the FAA has determined that a per-operator estimate is more accurate than a per-airplane estimate.

The FAA estimates the total cost per operator for the new actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2000-23-26, Amendment 39-11999 (65 FR 70775, November 28, 2000); AD 2018-14-11, Amendment 39-19331 (83 FR 34031, July 19, 2018); and AD 2019-13-04, Amendment 39-19677 (84 FR 35028, July 22, 2019); and

b. Adding the following new AD:

2021-03-03 ATR-GIE Avions de Transport Régional: Amendment 39-21406; Docket No. FAA-2020-0972; Project Identifier MCAI-2020-01091-T.

(a) Effective Date

This airworthiness directive (AD) is effective March 31, 2021.

(b) Affected ADs

(1) This AD replaces AD 2000-23-26, Amendment 39-11999 (65 FR 70775, November 28, 2000) (AD 2000-23-26).

(2) This AD replaces AD 2018-14-11, Amendment 39-19331 (83 FR 34031, July 19, 2018) (AD 2018-14-11).

(3) This AD replaces AD 2019-13-04, Amendment 39-19677 (84 FR 35028, July 22, 2019) (AD 2019-13-04).

(c) Applicability

This AD applies to ATR-GIE Avions de Transport Régional Model ATR72-101, -102, -201, -202, -211, -212, and -212A airplanes, certificated in any category, with an original airworthiness certificate or original export certificate of airworthiness issued on or before December 12, 2019.

(d) Subject

Air Transport Association (ATA) of America Code 05, Time Limits/Maintenance Checks.

(e) Reason

This AD was prompted by a determination that new or more restrictive airworthiness limitations are necessary. The FAA is issuing this AD to address fatigue cracking and damage in principal structural elements, which could result in reduced structural integrity of the airplane.

(f) Compliance

Comply with this AD within the compliance times specified, unless already done.

(g) Retained Maintenance or Inspection Program Revision, With No Changes

This paragraph restates the requirements of paragraph (g) of AD 2019-13-04, with no changes. For airplanes with an original airworthiness certificate or original export certificate of airworthiness issued on or before January 30, 2018: Within 90 days after August 26, 2019 (the effective date of AD 2019-13-04), revise the existing maintenance or inspection program, as applicable, to incorporate the information specified in ATR ATR72 Time Limits Document, Revision 16, dated January 30, 2018. The initial compliance time for doing the tasks is at the time specified in ATR ATR72 Time Limits Document, Revision 16, dated January 30, 2018, or within 90 days after August 26, 2019, whichever occurs later, except as provided by paragraphs (h) and (i) of this AD.

(h) Retained Initial Compliance Times for Certain Tasks, With No Changes

This paragraph restates the requirements of paragraph (h) of AD 2019-13-04, with no changes. For airplanes with an original airworthiness certificate or original export certificate of airworthiness issued on or before January 30, 2018: For accomplishing airworthiness limitations (AWL) and certification maintenance requirement (CMR)/maintenance significant item (MSI) tasks identified in figure 1 to paragraph (h) of this AD, the initial compliance time is at the applicable time specified in the airworthiness limitations section (ALS) of the ATR ATR72 Time Limits Document, Revision 16, dated January 30, 2018, or at the applicable compliance time in figure 1 to paragraph (h) of this AD, whichever occurs later.

(i) Retained Initial Compliance Time: One-Time Initial Threshold, With No Changes

This paragraph restates the requirements of paragraph (i) of AD 2019-13-04, with no changes. For airplanes with an original airworthiness certificate or original export certificate of airworthiness issued on or before January 30, 2018: For CMR task 220000-5, a one-time initial threshold, as specified in ATR ATR72 Time Limits Document, Revision 16, dated January 30, 2018, is allowed as specified in figure 2 to paragraph (i) of this AD.

(j) Retained Restrictions on Alternative Actions and Intervals With a New Exception

This paragraph restates the requirements of paragraph (j) of AD 2019-13-04, with a new exception. Except as required by paragraph (k) of this AD, after the existing maintenance or inspection program has been revised as required by paragraph (g) of this AD, no alternative actions (e.g., inspections) and intervals may be used unless the actions and intervals are approved as an alternative method of compliance (AMOC) in accordance with the procedures specified in paragraph (n)(1) of this AD.

(k) New Maintenance or Inspection Program Revision

Except as specified in paragraph (l) of this AD: Comply with all required actions and compliance times specified in, and in accordance with, European Union Aviation Safety Agency (EASA) AD 2020-0173, dated August 5, 2020 (EASA AD 2020-0173). Accomplishing the maintenance or inspection program revision required by this paragraph terminates the requirements of paragraph (g) of this AD.

(l) Exceptions to EASA AD 2020-0173

(1) Where EASA AD 2020-0173 refers to its effective date, this AD requires using the effective date of this AD.

(2) The requirements specified in paragraphs (1) and (3) of EASA AD 2020-0173 do not apply to this AD.

(3) Paragraph (4) of EASA AD 2020-0173 specifies revising “the approved AMP” within 12 months after its effective date, but this AD requires revising the existing maintenance or inspection program, as applicable, to incorporate the “limitations, tasks and associated thresholds and intervals” specified in paragraph (4) of EASA AD 2020-0173 within 90 days after the effective date of this AD.

(4) Except as provided by paragraph (2) of EASA AD 2020-0173, the initial compliance time for doing the tasks specified in paragraph (4) of EASA AD 2020-0173 is at the applicable “associated thresholds” specified in paragraph (4) of EASA AD 2020-0173, or within 90 days after the effective date of this AD, whichever occurs later.

(5) Where table 1 of EASA AD 2020-0173 specifies a compliance time of “without exceeding the previous threshold and interval as specified in TLD [Time Limits Document] Revision 16” for this AD use “without exceeding the compliance times specified in paragraph (g) of this AD.”

(6) The provisions specified in paragraphs (5) and (6) of EASA AD 2020-0173 do not apply to this AD.

(7) The “Remarks” section of EASA AD 2020-0173 does not apply to this AD.

(m) New Provisions for Alternative Actions and Intervals

After the maintenance or inspection program has been revised as required by paragraph (k) of this AD, no alternative actions (e.g., inspections) or intervals, are allowed unless they are approved as specified in the provisions of the “Ref. Publications” section of EASA AD 2020-0173.

(n) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the Large Aircraft Section, International Validation Branch, send it to the attention of the person identified in paragraph (o) of this AD. Information may be emailed to: 9-AVS-AIR-730-AMOC@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, Large Aircraft Section, International Validation Branch, FAA; or EASA; or ATR-GIE Avions de Transport Régional's EASA Design Organization Approval (DOA). If approved by the DOA, the approval must include the DOA-authorized signature.

(o) Related Information

For more information about this AD, contact Shahram Daneshmandi, Aerospace Engineer, Large Aircraft Section, International Validation Branch, FAA, 2200 South 216th St., Des Moines, WA 98198; telephone and fax 206-231-3220; email shahram.daneshmandi@faa.gov.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 31, 2021.

(i) European Union Aviation Safety Agency (EASA) AD 2020-0173, dated August 5, 2020.

(ii) [Reserved]

(4) The following service information was approved for IBR on August 26, 2019 (84 FR 35028, July 22, 2019).

(i) ATR ATR72 Time Limits Document, Revision 16, dated January 30, 2018.

(ii) [Reserved]

(5) For EASA AD 2020-0173, contact the EASA, Konrad-Adenauer-Ufer 3, 50668 Cologne, Germany; telephone +49 221 8999 000; email ADs@easa.europa.eu; internet www.easa.europa.eu. You may find this EASA AD on the EASA website at https://ad.easa.europa.eu.

(6) For ATR service information identified in this AD, contact ATR-GIE Avions de Transport Régional, 1 Allée Pierre Nadot, 31712 Blagnac Cedex, France; telephone +33 (0) 5 62 21 62 21; fax +33 (0) 5 62 21 67 18; email continued.airworthiness@atr-aircraft.com; internet https://www.atr-aircraft.com.

(7) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0972.

(8) You may view this material that is incorporated by reference at the National Archives and Records Administration (NARA). For information on the availability of this material at NARA, email fedreg.legal@nara.gov, or go to: https://www.archives.gov/federal-register/cfr/ibr-locations.html.

Issued on January 22, 2021.
Lance T. Gant,
Director, Compliance & Airworthiness Division, Aircraft Certification Service.

[FR Doc. 2021-03599 Filed 2-23-21; 8:45 am]

BILLING CODE 4910-13-P